DEPARTMENT OF TRANSPORTATION

Coast Guard

33 CFR Part 167

[USCG-1999-5700]

RIN 2115-AF84

Traffic Separation Schemes: Off San Francisco, in the Santa Barbara Channel, in the Approaches to Los Angeles-Long Beach, CA

AGENCY: Coast Guard, DOT.

ACTION: Final rule.

SUMMARY: The Coast Guard is amending the existing Traffic Separation Schemes (TSS's) off San Francisco and in the Santa Barbara Channel. The amendments have been adopted by the International Maritime Organization and validated by several recent vessel routing studies. The amended TSS's will route commercial vessels farther offshore, providing an extra margin of safety and environmental protection in the Monterey Bay National Marine Sanctuary and adjacent waters. This rule codifies descriptions of these TSS's into the Code of Federal Regulations.

DATES: This final rule is effective on August 30, 2000.

ADDRESSES: Comments and material received from the public, as well as documents mentioned in this preamble as being available in the docket, are part of docket USCG-1999-5700 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: For questions on this rule, contact Lieutenant Commander Brian Tetreault, Vessel Traffic Management Officer, Eleventh Coast Guard District, telephone 510-437-2951, e-mail btetreault@d11.uscg.mil; Mike Van Houten, Aids to Navigation Section Chief, Eleventh Coast Guard District, telephone 510-437-2968, e-mail MvanHouten@d11.uscg.mil; or George Detweiler, Office of Vessel Traffic Management, Coast Guard, at 202-267-0574; e-mail Gdetweiler@comdt.uscg.mil. For questions on viewing the docket, call Dorothy Beard, Chief, Dockets, Department of Transportation, telephone 202-366-9329.

SUPPLEMENTARY INFORMATION:

Regulatory History

In 1989, we published a notice of proposed rulemaking (NPRM) entitled “Traffic Separation Schemes and Shipping Safety Fairways Off the Coast of California” (CGD 83-032, 54 FR 18258). The NPRM proposed implementing several IMO-adopted amendments to the existing TSS's and establishing a shipping safety fairway along the California coast. We elected to postpone implementing the amendments until the studies on the Monterey Bay National Marine Sanctuary (MBNMS) and on oil tanker routing along the California coast (the “Tanker Free Zone” study mandated by the Oil Pollution Act of 1990) were complete.

On June 17, 1999, we published an NPRM entitled “Traffic Separation Schemes: Off San Francisco, in the Santa Barbara Channel, in the Approaches to Los Angeles-Long Beach, California” in the Federal Register (64 FR 32451). We received six letters commenting on the proposed rule. No public hearing was requested, and none was held.

Background and Purpose

This rule amends the Traffic Separation Schemes (TSS's) off San Francisco and in the Santa Barbara Channel adopted by the International Maritime Organization (IMO) in 1990 and 1985, respectively (“Ships” Routeing”, Sixth Edition 1991, IMO). These amendments—

a. Shift the southern leg of the TSS off San Francisco westward to provide a true north/south alignment; and

b. Extend the existing TSS in the Santa Barbara Channel 18 nautical miles westward beyond Point Conception to Point Arguello.

In addition, this rule codifies these TSS's into Title 33 part 167 of the Code of Federal Regulations (CFR). It also adds the IMO definition of “Area to be avoided” in 33 CFR 167.5.

Discussion of Comments and Changes

We received six written comments in response to our NPRM entitled “Traffic Separation Schemes Off San Francisco, in the Santa Barbara Channel, and in the Approaches to Los Angeles-Long Beach, California” (64 FR 32451, June 17, 1999). Five comments were strongly in favor of the proposed rule without changes. One comment was in favor of the proposed rule, but requested that additional information be included about the underlying Sword Unit leases that would be affected by the extension of the Santa Barbara Channel. The comment wanted the regulations to alert readers of potential future conflicts between vessels transiting the extended TSS in the Santa Barbara Channel and the development of Sword Unit leases. Sword Unit leases, OCS-P 0319, 0320, 0322 and 0323A, underlie the proposed TSS extension. Exploration activities may occur on the Sword Unit as early as 2002, with development occurring as early as 2007. To accommodate exploration and development on the Sword Unit, we may temporarily suspend or amend the TSS, based on historical practice and sections 3.12 and 7.6 of the IMO publication, “Ships” Routeing”, Sixth Edition 1991. We intend to work collaboratively with all of the agencies involved to develop and implement appropriate measures to facilitate both oil production and safe and efficient shipping. Close coordination throughout delineation drilling and any subsequent production phase will allow us to select appropriate measures based on the circumstances, as we know them at the time. While we agree that potential future conflicts may occur, to include information concerning Sword Unit leases in the CFR is beyond the scope of this rulemaking.

The section entitled “Off San Francisco: Area to be avoided” was created by removing § 167.401(c) from the NPRM and inserting it as § 167.406 in this rule. This presents the information in the regulations as it is in “Ships” Routeing”, Sixth Edition 1991, International Maritime Organization.

Section 167.452 of the NPRM was divided into §§ 167.451 and 167.452 in this rule. This presents the information in the regulations as it is in “Ships” Routeing”, Sixth Edition 1991, International Maritime Organization.

Sections 167.500 through 167.503 were proposed in the NPRM but were removed from this rule. As stated in the NPRM, we intended to codify the existing Los Angeles-Long Beach TSS. Because of major port improvement projects to the ports of Los Angeles and Long Beach, we will temporarily suspend the TSS effective September 1, 2000. To avoid confusion, these sections will be codified after the improvement projects are completed.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT)(44 FR 11040, February 26, 1979). We expect the economic impact of this rule to be so minimal that a full Regulatory Evaluation under paragraph 10e of the regulatory policies and procedures of DOT is unnecessary. A summary of the costs and benefits of this rule follows:

Costs

The amendments to the TSS's in the Santa Barbara Channel and off San Francisco will result in a slight increase in transit times and operating costs for vessels using them. Most of the vessels using the TSS are large commercial vessels such as containerships. The northbound transit distance through the TSS's will increase by 2.4 nautical miles (nm) and the southbound transit distance will increase by 4.1 nm. The time per transit will increase by approximately 8 minutes (.14 hours) northbound and 14 minutes (.23 hours) southbound. This corresponds to northbound 219.43 ((1 hour/17.5 nm) × 2.4 nm × 1600 transits/year)) and southbound 374.86 ((1 hour/17.5 nm) × 4.1 nm × 1600 transits/year)) additional hours per year. Assuming a fuel cost of approximately $600 per hour, the estimated increase in costs for industry would be $356,574 per year ((219.43 hours + 374.86 hours) × $600/hour).

Vessel operators will incur the minimal cost of plotting new coordinates on their existing charts or purchasing updated charts, when available.

Benefits

Amendments to the TSS in the Santa Barbara Channel. By extending the TSS 18 miles, this rule decreases the risk of allisions and groundings and resulting injuries, pollution, and property damage, by routing vessels farther away from oil platforms and Point Conception. The TSS extension also provides an increased margin of safety should future development in this area occur.

Amendments to the TSS off San Francisco. This rule rotates the approach lanes in a westward direction which reduces the risk of collisions and groundings and resulting injuries, pollution, and property damage. Vessels will transit farther offshore when entering or departing San Francisco Bay with their closest approach to land increased from 3 to 6 nautical miles. This increased distance provides an added margin of safety for vessels experiencing casualties (e.g. loss of power or steering) and more time for response vessels to reach a disabled vessel before it drifts ashore. The rotation also eliminates conflicts between large commercial vessels and fishing vessel fleets operating closer to shore.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This rule will have a minimal economic impact on vessels operated by small entities. The rule amends two existing TSS's. This action improves safety for commercial vessels using the TSS's by reducing the risk of collisions, allisions, and groundings. Vessels voluntarily transiting the TSS in the Santa Barbara Channel will have to transit an additional 2 to 4 nautical miles per trip, depending on the direction traveled. This additional transit distance results in increased vessel operating costs ranging from approximately $80 to $140 per trip. Vessels that tend to use the TSS's are commercial vessels such as containerships, freighters, and tankers. These vessels by their very nature are large in size and capable of operating in an offshore environment. Because of their large size most of them would not qualify as small entities. However, even if a vessel does qualify as a small entity, the impact of the additional $80 to $140 per trip would be an insignificant increase to the overall cost of its complete voyage. Therefore, the Coast Guard certifies under 5 U.S.C. 605(b) that this final rule will not have a significant economic impact on a substantial number of small entities.

Assistance for Small Entities

Under section 213(a) of the Small Business Regulatory Enforcement Fairness Act of 1996 (Pub. L. 104-121), we offered to assist small entities in understanding the rule so that they could better evaluate its effects on them and participate in this rulemaking. If the rule affects your small business, organization, or governmental jurisdiction and you have questions concerning its provisions or options for compliance, please consult Mr. George Detweiler, Coast Guard, Marine Transportation Specialist, at 202-267-0574.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this proposed rule under E.O. 13132 and have determined that it does not have implications for federalism under that Order.

Title I of the Ports and Waterways Safety Act (33 U.S.C. 1221 et seq.) (PWSA) authorizes the Secretary to promulgate regulations to designate and amend traffic separation schemes (TSS's) to protect the marine environment. In enacting PWSA in 1972, Congress found that advance planning and consultation with the affected States and other stakeholders was necessary in the development and implementation of a TSS. Throughout the history of the development of the TSS's off San Francisco and in the Santa Barbara Channel, California, we have consulted with the San Francisco Harbor Safety Committee (“HSC”), the affected state and federal pilot's associations, vessel operators, users, and all affected stakeholders. The San Francisco HSC, which was established by the State of California, includes all the principal waterway users of the San Francisco ports and other key agencies. The HSC was an active participant in various meetings with the Coast Guard and has contributed to this rulemaking.

Presently, there are no California State laws or regulations concerning the same subjects as are contained in this proposed rule. We understand the state does not contemplate issuing any such rules. However, it should be noted, that by virtue of the PWSA authority, the TSS's in this rule will preempt any state rule on the same subject.

In order to be effective against foreign flag vessels on the high seas, TSS's must be submitted to, approved by, and implemented by the International Maritime Organization (IMO). Individual states are not represented at IMO; that is the role of the federal government. The Coast Guard is the principal United States agency responsible for advancing the interests of the United States at IMO. We recognize, however, the interest of all local stakeholders as we work at IMO to advance the goals of these TSS's. We will continue to work closely with such stakeholders to implement the final rule to ensure that the waters off San Francisco and in the Santa Barbara Channel affected by this rule are made safer and more environmentally secure.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this rule will not result in such an expenditure, we do discuss the effects of this rule elsewhere in this preamble.

Taking of Private Property

This rule would not effect a taking of private property or otherwise have taking implications under E.O. 12630, Governmental Actions and Interference with Constitutionally Protected Property Rights. The Coast Guard has agreed that, to accommodate exploration and development on the Sword Unit, the TSS may be temporarily suspended or amended, based on historical practice and sections 3.12 and 7.6 of the IMO publication, “Ships' Routeing”, Sixth Edition 1991.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

We considered the environmental impact of this rule and concluded that, under figure 2-1, paragraph (34)(I), of Commandant Instruction M16475.lC, this rule is categorically excluded from further environmental documentation. This rule adjusts two existing TSS's. These adjustments will enhance safety in the MBNMS and adjacent waters by allowing additional response time for a vessel that is adrift, thus preventing groundings, and by routing vessels away from sensitive areas. A “Categorical Exclusion Determination” is available in the docket where indicated under ADDRESSES.

List of Subjects in 33 CFR Part 167

Harbors, Marine safety, Navigation (water), Waterways.

For the reasons discussed in the preamble, the Coast Guard amends 33 CFR part 167 as follows:

PART 167—OFFSHORE TRAFFIC SEPARATION SCHEMES

1. The authority citation for part 167 continues to read as follows:

Authority: 33 U.S.C. 1223; 49 CFR 1.46.

2. In § 167.5, redesignate paragraphs (a) through (f) as paragraphs (b) through, (g), respectively, and add new paragraph (a) to read as follows:

§ 167.5 Definitions.

(a) Area to be avoided means a routing measure comprising an area within defined limits in which either navigation is particularly hazardous or it is exceptionally important to avoid casualties and which should be avoided by all ships or certain classes of ships.

* * * * *

3. Following § 167.350, add the undesignated center heading “Pacific West Coast” and §§ 167.400 through 167.406, and 167.450 through 167.452, to read as follows: Pacific West Coast

§ 167.400 Off San Francisco Traffic Separation Scheme: General.

The Off San Francisco Traffic Separation Scheme consists of six parts: a Precautionary Area, a Northern Approach, a Southern Approach, a Western Approach, a Main Ship Channel, and an Area to Be Avoided. The specific areas in the Off San Francisco TSS and Precautionary Area are described in §§ 167.401 through 167.406 of this chapter. The geographic coordinates in §§ 167.401 through 167.406 are defined using North American Datum 1983 (NAD 83).

§ 167.401 Off San Francisco: Precautionary area.

(a)(1) A precautionary area is established bounded to the west by an arc of a circle with a radius of 6 miles centering upon geographical position 37°45.00′N, 122°41.50′W and connecting the following geographical positions:

Latitude | Longitude
37°42.70′ N | 122°34.60′ W.
37°50.30′ N | 122°38.00′ W.

(2) The precautionary area is bounded to the east by a line connecting the following geographic positions:

Latitude | Longitude
37°42.70′ N | 122°34.60′ W.
37°45.90′ N | 122°38.00′ W.
37°50.30′ N | 122°38.00′ W.

(b) A pilot boarding area is located near the center of the precautionary area described in paragraph (a) of this section. Due to heavy vessel traffic, mariners are advised not to anchor or linger in this precautionary area except to pick up or disembark a pilot.

§ 167.402 Off San Francisco: Northern approach.

(a) A separation zone is bounded by a line connecting the following geographical positions:

Latitude | Longitude
37°48.40′ N | 122°47.60′ W
37°56.70′ N | 123°03.70′ W
37°55.20′ N | 123°04.90′ W
37°47.70′ N | 122°48.20′ W

(b) A traffic lane for north-westbound traffic is established between the separation zone and a line connecting the following geographical positions:

Latitude | Longitude
37°49.20′ N | 122°46.70′ W.
37°58.00′ N | 123°02.70′ W.

(c) A traffic lane for south-eastbound traffic is established between the separation zone and a line connecting the following geographical positions:

Latitude | Longitude
37°53.90′ N | 123°06.10′ W.
37°46.70′ N | 122°48.70′ W.

§ 167.403 Off San Francisco: Southern approach.

(a) A separation zone is bounded by a line connecting the following geographical positions:

Latitude | Longitude
37°39.10′ N | 122°40.40′ W.
37°27.00′ N | 122°40.40′ W.
37°27.00′ N | 122°43.00′ W.
37°39.10′ N | 122°43.00′ W.

(b) A traffic lane for northbound traffic is established between the separation zone and a line connecting the following geographical positions:

Latitude | Longitude
37°39.30′ N | 122°39.20′ W.
37°27.00′ N | 122°39.20′ W.

(c) A traffic lane for southbound traffic is established between the separation zone and a line connecting the following geographical positions:

Latitude | Longitude
37°27.00′ N | 122°44.30′ W.
37°39.40′ N | 122°44.30′ W.

§ 167.404 Off San Francisco: Western approach.

(a) A separation zone is bounded by a line connecting the following geographical positions:

Latitude | Longitude
37°41.90′ N | 122°48.00′ W.
37°38.10′ N | 122°58.10′ W.
37°36.50′ N | 122°57.30′ W.
37°41.10′ N | 122°47.20′ W.

(b) A traffic lane for south-westbound traffic is established between the separation zone and a line connecting the following geographical positions:

Latitude | Longitude
37°42.80′ N | 122°48.50′ W.
37°39.60′ N | 122°58.80′ W.

(c) A traffic lane for north-eastbound traffic is established between the separation zone and a line connecting the following geographical positions:

Latitude | Longitude
37°35.00′ N | 122°56.50′ W.
37°40.40′ N | 122°46.30′ W.

§ 167.405 Off San Francisco: Main ship channel.

(a) A separation line connects the following geographical positions:

Latitude | Longitude
37°45.90′ N | 122°38.00′ W.
37°47.00′ N | 122°34.30′ W.
37°48.10′ N | 122°31.00′ W.

(b) A traffic lane for eastbound traffic is established between the separation line and a line connecting the following geographical positions:

Latitude | Longitude
37°45.80′ N | 122°37.70′ W.
37°47.80′ N | 122°30.80′ W.

(c) A traffic lane for westbound traffic is established between the separation line and a line connecting the following geographical positions:

Latitude | Longitude
37°46.20′ N | 122°37.90′ W.
37°46.90′ N | 122°35.30′ W.
37°48.50′ N | 122°31.30′ W.

§ 167.406 Off San Francisco: Area to be avoided.

A circular area to be avoided, with a radius of half of a nautical mile, is centered upon geographic position:

Latitude | Longitude
37°45.00′ N | 122°41.50′ W.

§ 167.450 In the Santa Barbara Channel Traffic Separation Scheme: General.

The Traffic Separation Scheme in the Santa Barbara Channel is described in §§ 167.451 and 167.452. The geographic coordinates in §§ 167.451 and 167.452 are defined using North American Datum 1983 (NAD 83).

§ 167.451 In the Santa Barbara Channel: Between Point Vicente and Point Conception.

(a) A separation zone is bounded by a line connecting the following geographical positions:

Latitude | Longitude
34°20.90′ N | 120°30.16′ W
34°04.00′ N | 119°15.96′ W.
33°44.90′ N | 118°35.75′ W.
33°43.20′ N | 118°36.95′ W.
34°02.20′ N | 119°17.46′ W.
34°18.90′ N | 120°30.96′ W.

(b) A traffic lane for north-westbound traffic is established between the separation zone and a line connecting the following geographical positions:

Latitude | Longitude
34°21.80′ N | 120°29.96′ W.
34°04.80′ N | 119°15.16′ W.
33°45.80′ N | 118°35.15′ W.

(c) A traffic lane for south-eastbound traffic is established between the separation zone and a line connecting the following geographical positions:

Latitude | Longitude
33°42.30′ N | 118°37.55′ W.
34°01.40′ N | 119°18.26′ W.
34°18.00′ N | 120°31.16′ W.

§ 167.452 In the Santa Barbara Channel: Between Point Conception and Point Arguello.

(a) A separation zone is bounded by a line connecting the following geographical positions:

Latitude | Longitude
34°20.90′ N | 120°30.16′ W.
34°18.90′ N | 120°30.96′ W.
34°25.70′ N | 120°51.81′ W.
34°23.75′ N | 120°52.51′ W.

(b) A traffic lane for westbound traffic is established between the separation zone and a line connecting the following geographical positions:

Latitude | Longitude
34°21.80′ N | 120°29.96′ W.
34°26.60′ N | 120°51.51′ W.

(c) A traffic lane for eastbound traffic is established between the separation zone and a line connecting the following geographical positions:

Latitude | Longitude
34°18.00′ N | 120°31.16′ W.
34°22.80′ N | 120°52.76′ W.

Dated: July 18, 2000.
Joseph J. Angelo,
Acting Assistant Commandant for Marine Safety and Environmental Protection.

[FR Doc. 00-19220 Filed 7-28-00; 8:45 am]

BILLING CODE 4910-15-U